DEPARTMENT OF COMMERCE

Foreign-Trade Zones Board

[B-38-2022]

Foreign-Trade Zone (FTZ) 45—Portland, Oregon, Authorization of Production Activity, Epson Portland Inc. (Inkjet Ink Printer Bottles (Empty and Filled) For Retail Sale), Hillsboro, Oregon

On August 23, 2022, Epson Portland Inc., submitted a notification of proposed production activity to the FTZ Board for its facility within Subzone 45F, in Hillsboro, Oregon.

The notification was processed in accordance with the regulations of the FTZ Board (15 CFR part 400), including notice in the Federal Register inviting public comment (87 FR 53456-53457, August 31, 2022). On December 21, 2022, the applicant was notified of the FTZ Board's decision that no further review of the activity is warranted at this time. The production activity described in the notification was authorized, subject to the FTZ Act and the FTZ Board's regulations, including Section 400.14.

Dated: December 21, 2022.
Andrew McGilvray,
Executive Secretary.

[FR Doc. 2022-28135 Filed 12-23-22; 8:45 am]

BILLING CODE 3510-DS-P